FEDERAL TRADE COMMISSION

16 CFR Part 306

Telemarketing Sales Rule

AGENCY: Federal Trade Commission (“FTC” or “Commission”).

ACTION: Extension of comment period.

SUMMARY: In an August 11, 2014, Federal Register Notice, as part of its systematic review of all current Commission regulations and guides, the Federal Trade Commission (“Commission”) sought public comment on the efficacy, costs, and benefits of the Telemarketing Sales Rule (“TSR”), and whether the Commission should retain, modify, or rescind it. The Notice stated that comments must be received on or before October 14, 2014. In response to a request received on September 29, 2014, the Commission has decided to extend the comment period, which will now close on November 13, 2014.

DATES: Comments addressing the regulatory review of the TSR must be received on or before November 13, 2014.

FOR FURTHER INFORMATION CONTACT: Craig Tregillus, (202) 326-2970, or Karen S. Hobbs (202) 326-3587, Division of Marketing Practices, Federal Trade Commission, 600 Pennsylvania Avenue NW.—Rm. CC-8528, Washington, DC 20580.

ADDRESSES: Interested parties may file a comment online or on paper, by following the instructions in the Request for Comment part of the SUPPLEMENTARY INFORMATION section below. Write “Telemarketing Sales Rule Regulatory Review, 16 CFR Part 310, Project No. R411001” on your comment. File your comment online at https://ftcpublic.commentworks.com/ftc/telemarketingsalesnprm by following the instructions on the Web-based form. If you prefer to file your comment on paper, mail your comment to the following address: Federal Trade Commission, Office of the Secretary, 600 Pennsylvania Avenue NW., Suite CC-5610 (Annex B), Washington, DC 20580, or deliver your comment to the following address: Federal Trade Commission, Office of the Secretary, Constitution Center, 400 7th Street SW., 5th Floor, Suite 5610 (Annex B), Washington, DC 20024.

SUPPLEMENTARY INFORMATION: The Commission is extending the comment period for its rule review of the TSR to November 13, 2014. The Commission's Notice requesting public comment posed an extensive list of questions on the costs, benefits and efficacy of the TSR in the marketplace, and whether the Commission should retain, modify, or rescind it.¹ The Commission also specifically requested comment on three issues: (1) Whether the preaquired account information provisions of the TSR should be modified in view of current credit card association rules and the Restore Online Shoppers Confidence Act, 15 U.S.C. 8401 (2010); (2) what impact, if any, the increasing use of general media to solicit inbound calls from consumers to purchase a variety of goods or services, including those involving a negative option or free trial, is having; and (3) the costs and burdens of modifying the recordkeeping requirements of the TSR to require telemarketers to retain their own call records. The regulatory review comment period was to end on October 14, 2014.

¹ Federal Trade Commission: Telemarketing Sales Rule, Rule Review, 79 FR 46732 (Aug. 11, 2014).

In a letter dated September 25, 2014, which the Commission received on September 29, 2014, the Professional Association for Customer Engagement (“PACE”) requested that the Commission extend the comment period for an additional two months. The Commission recognizes that the extensive list of questions on which it has requested public comment raise significant issues and believes that extending the comment period for 30 days will be sufficient to facilitate a more complete record.

You can file a comment online or on paper. For the Commission to consider your comment, we must receive it on or before November 13, 2014. Write “Telemarketing Sales Rule Regulatory Review, 16 CFR Part 310, Project No. R411001” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, such as anyone's Social Security number, date of birth, driver's license number or other state identification number or foreign country equivalent, passport number, financial account number, or credit or debit card number. You are also solely responsible for making sure that your comment does not include any sensitive health information, such as medical records or other individually identifiable health information. In addition, do not include any “[t]rade secret or any commercial or financial information . . . which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names. If you want the Commission to give your comment confidential treatment, you must file it in paper form, with a request for confidential treatment, and you have to follow the procedure explained in FTC Rule 4.9(c), 16 CFR 4.9(c). Your comment will be kept confidential only if the FTC General Counsel grants your request in accordance with the law and the public interest.

Postal mail addressed to the Commission is subject to delay due to heightened security screening. As a result, we encourage you to submit your comments online. To make sure that the Commission considers your online comment, you must file it at https://ftcpublic.commentworks.com/ftc/telemarketingsalesnprm, by following the instructions on the Web-based form. If this Notice appears at http://www.regulations.gov, you also may file a comment through that Web site.

If you prefer to file your comment on paper, write “Telemarketing Sales Rule Regulatory Review, 16 CFR Part 310, Project No. R411001” on your comment and on the envelope and mail your comment to the following address: Federal Trade Commission, Office of the Secretary, 600 Pennsylvania Avenue NW., Suite CC-5610 (Annex B), Washington, DC 20580, or deliver your comment to the following address: Federal Trade Commission, Office of the Secretary, Constitution Center, 400 7th Street SW., 5th Floor, Suite 5610 (Annex B), Washington, DC 20024. If possible, submit your paper comment to the Commission by courier or overnight service.

Visit the Commission Web site at http://www.ftc.gov to read the August 11, 2014 Notice and the news release describing it. The FTC Act and other laws that the Commission administers permit the collection of public comments to consider and use in this proceeding as appropriate.

The Commission will consider all timely and responsive public comments that it receives on or before November 13, 2014. You can find more information, including routine uses permitted by the Privacy Act, in the Commission's privacy policy, at http://www.ftc.gov/ftc/privacy.htm.

By direction of the Commission.
Janice Podoll Frankle,
Acting Secretary.

[FR Doc. 2014-24247 Filed 10-9-14; 8:45 am]

BILLING CODE 6750-01-P